DEPARTMENT OF TRANSPORTATION

Federal Aviation Administration

Notice of Intent To Release Certain Properties From All Terms, Conditions, Reservations and Restrictions of a Quitclaim Deed Agreement Between the City of Fernandina Beach and the Federal Aviation Administration for the Fernandina Beach Municipal Airport, Fernandina Beach, FL

AGENCY: Federal Aviation Administration (FAA), DOT.

ACTION: Request for public comment.

SUMMARY: The FAA hereby provides notice of intent to release 0.28 acres at the Fernandina Beach Municipal Airport, Fernandina Beach, FL from the conditions, reservations, and restrictions as contained in a Quitclaim Deed agreement between the FAA and the City of Fernandina Beach, dated July 9, 1947. The release of property will allow the City of Fernandina Beach to dispose of the property for other than aeronautical purposes. The property is located on the North side of Airport Road at the Fernandina Beach Municipal Airport, within the city limits of Fernandina Beach, Nassau County, Florida. The parcel is currently designated as surplus property. The property will be released of its federal obligations for the purpose of selling the property at fair market value for light industrial future commmerical development. The fair market value lease of this parcel has been determined to be $40,000.

Documents reflecting the Sponsor's request are available, by appointment only, for inspection at the Fernandina Beach Municipal Airport and the FAA Airports District Office.

ADDRESSES: Documents are available for review at Fernandina Beach Municipal Airport, and the FAA Airports District Office, 8427 SouthPark Circle, Suite 524, Orlando, FL 32819. Written comments on the Sponsor's request must be delivered or mailed to: Jenny Iglesias-Hamann, Community Planner, Orlando Airports District Office, 8427 SouthPark Circle, Suite 524, Orlando, FL 32819.

DATES: Comments are due on or before July 18, 2022.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

FOR FURTHER INFORMATION CONTACT: Jenny Iglesias-Hamann, Community Planner, Orlando Airports District Office, 8427 SouthPark Circle, Suite 524, Orlando, FL 32819.

Rebecca Henry Harper,
Acting Manager, Orlando Airports District Office, Southern Region.

[FR Doc. 2022-13027 Filed 6-16-22; 8:45 am]

BILLING CODE 4910-13-P